DEPARTMENT OF TRANSPORTATION

National Highway Traffic Safety Administration

Reports, Forms, and Recordkeeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on November 16, 2011 (76 FR 71122-71123).

DATES: Comments must be submitted on or before June 11, 2012.

ADDRESSES: Send comments, within 30 days, to the Office of Information and Regulatory Affairs, Office of Management and Budget, 725 17th Street NW., Washington, DC 20503, Attention NHTSA Desk Officer.

FOR FURTHER INFORMATION CONTACT: Jessica Cicchino, Ph.D., Contracting Officer's Technical Representative, Office of Behavioral Safety Research (NTI-131), National Highway Traffic Safety Administration, 1200 New Jersey Ave. SE., W46-491, Washington, DC 20590. Dr. Cicchino's phone number is 202-366-2752 and her email address is jessica.cicchino@dot.gov.

SUPPLEMENTARY INFORMATION: Title: Instrumented On-Road Study of Motorcycle Riders.

Type of Request: New information collection request.

Abstract: Motorcycle crashes and fatalities have become a rapidly escalating traffic safety problem on our Nation's roads. In 2010, 4,502 motorcyclists were killed in the United States, which is more than double the 2,106 motorcyclist fatalities that occurred when fatalities reached a low in 1997. Motorcycles made up 3% of the registered vehicles in the United States in 2010 but motorcyclists accounted for 14% of the total traffic fatalities.

Knowledge of both how riders successfully avoid crashes and of behaviors that correlate with and contribute to crash risk is crucial to developing effective countermeasures to reduce motorcycle crashes and fatalities. Data describing actual events are difficult to collect. Riders and law enforcement officers are not always aware of what caused a crash after the fact. It is even more difficult to identify behavioral factors associated with safe riding, and the actions of riders during evasive maneuvers that did not result in a police-reportable crash. Studies using instrumented vehicles to collect data on the real-world driving of passenger car and truck drivers have provided unprecedented information describing actual events occurring for drivers as they negotiate the roadway system. The goal of this study is to collect similar data from motorcycle operators using instrumented motorcycles.

The National Highway Traffic Safety Administration (NHTSA) will be conducting on-road instrumented vehicle data collection with a total of 160 motorcycle riders to examine motorcycle riders' behaviors as they typically ride. Volunteers will be recruited to have their motorcycles outfitted for one year with instrumentation such as cameras, GPS, and accelerometers that will capture data on normal riding behavior whenever their motorcycles are ridden.

Before participating in the on-road portion of the study, participating motorcycle riders will be asked to complete intake questionnaires that will ask about their demographics, riding history, self-reported behavior, and perceptions. After completing the on-road study, participants will be asked to complete a short debriefing questionnaire that will focus on their experiences riding with the instrumentation in the past year. This subjective data will be combined with the objective data from the instrumentation on actual riding behavior to help NHTSA develop a better understanding of if a rider's demographic characteristics, riding history, self-reported behavior, and perceptions are linked to his or her behavior on the road.

Affected Public: Participation in the study will be voluntary. Each of the 160 participants in the on-road instrumented motorcycle portion of the study will be asked to complete intake questionnaires, capturing demographic characteristics, riding history, self-reported behavior, and perceptions, during his or her instrumentation session and to complete a debriefing questionnaire as the instrumentation is being removed from his or her motorcycle one year later.

Estimated Total Burden: The intake questionnaires are estimated to take 75 minutes to complete, and the debriefing questionnaire is estimated to last 15 minutes. Intake questionnaires will be completed during the time when the respondent's motorcycle is being instrumented, and the debriefing questionnaire will be completed while the instrumentation is being removed from the respondent's motorcycle after the one-year period of on-road data collection. This results in an estimated burden of 200 hours of burden for the intake questionnaires (160 respondents × 75 minutes), and 40 hours of burden for the debriefing questionnaires (160 respondents × 15 minutes).

The total estimated information collection burden for this project is 240 hours over one year: 200 hours for the intake questionnaires and 40 hours for the debriefing interviews. The respondents will not incur any record-keeping burden or record-keeping cost from the information collection.

Comments are invited on the following: (i) Whether the proposed collection of information is necessary for the proper performance of the functions of the agency, including whether the information will have practical utility; (ii) the accuracy of the agency's estimate of the burden of the proposed information collection; (iii) ways to enhance the quality, utility, and clarity of the information to be collected; and (iv) ways to minimize the burden of the collection of information on respondents, including the use of automated collection techniques or other forms of information technology.

A comment to OMB is most effective if OMB receives it within 30 days of publication.

Authority: 44 U.S.C. 3506(c)(2)(A).

Issued on: May 7, 2012.
Jeff Michael,
Associate Administrator, Research and Program Development.

[FR Doc. 2012-11338 Filed 5-9-12; 8:45 am]

BILLING CODE 4910-59-P